DEPARTMENT OF COMMERCE

International Trade Administration

[A-570-979]

Crystalline Silicon Photovoltaic Cells, Whether or Not Assembled Into Modules, From the People's Republic of China: Notice of Court Decision Not in Harmony With the Results of Antidumping Administrative Review; Notice of Amended Final Results; Correction

AGENCY: Enforcement and Compliance, International Trade Administration, Department of Commerce.

ACTION: Notice; correction.

SUMMARY: The Department of Commerce (Commerce) published a notice in the Federal Register, in which it amended the final results of the 2017-2018 administrative review of the antidumping duty order on crystalline silicon photovoltaic cells, whether or not assembled into modules, (solar cells and modules) from the People's Republic of China (China) pursuant to a final judgment by the U.S. Court of International Trade (CIT). That notice contains incorrect weighted-average dumping margins for two company groupings.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Correction

In the Federal Register of January 5, 2023, in FR Doc 2023-856, on page 857, correct the weighted-average dumping margins listed within the weighted-average dumping margins table for the below company groupings, as follows:

Exporters | Amended weighted- average dumping margins (percent)
Trina Solar Co., Ltd./Trina Solar (Changzhou) Science and Technology Co., Ltd./Yancheng Trina Guoneng Photovoltaic Technology Co., Ltd./Changzhou Trina Solar Yabang Energy Co., Ltd./Turpan Trina Solar Energy Co., Ltd./Hubei Trina Solar Energy Co., Ltd./Trina Solar (Hefei) Science and Technology Co., Ltd./Changzhou Trina Hezhong Photoelectric Co., Ltd | 25.18
Risen Energy Co. Ltd./Risen (Wuhai) New Energy Co., Ltd./Zhejiang Twinsel Electronic Technology Co., Ltd./Risen (Luoyang) New Energy Co., Ltd./Jiujiang Shengchao Xinye Technology Co., Ltd./Jiujiang Shengzhao Xinye Trade Co., Ltd./Ruichang Branch, Risen Energy (HongKong) Co., Ltd./Risen Energy (Changzhou) Co., Ltd | 19.20

Background

On January 5, 2023, Commerce published in the Federal Register a notice of amended final results of the 2017-2018 administrative review of the antidumping duty order on solar cells and modules from China pursuant to a final judgment by the CIT.¹ In that Amended Final/Timken, we listed incorrect weighted-average dumping margins in the amended final results table for the company groupings identified above.

¹ See Crystalline Silicon Photovoltaic Cells, Whether or Not Assembled Into Modules, from the People's Republic of China: Notice of Court Decision Not in Harmony With the Results of Antidumping Administrative Review; Notice of Amended Final Results, 88 FR 856 (January 5, 2023) (Amended Final/Timken).

Notification to Interested Parties

This notice is issued and published in accordance with sections 751(a)(1), and 777(i)(1) of the Tariff Act of 1930, as amended.

Dated: March 6, 2023.
Lisa W. Wang,
Assistant Secretary for Enforcement and Compliance.

[FR Doc. 2023-04962 Filed 3-9-23; 8:45 am]

BILLING CODE 3510-DS-P